DEPARTMENT OF VETERANS AFFAIRS

Rescission of Order Suspending the Application of Section 1-402 or 1-404 of Executive Order 12171

AGENCY: Department of Veterans Affairs.

ACTION: Notice.

SUMMARY: On April 17, 2025, the Department of Veterans Affairs (VA), published a notice in the Federal Register announcing the suspension of the application of section 1-402 or 1-404 of Executive Order (E.O.) 12171 for certain employees, thereby bringing those employees under the coverage of the Federal Service Labor-Management Relations Statute. VA is rescinding the aforementioned order of suspension of the application of section 1-402 or 1-404 of E.O. 12171.

DATES: This rescission of the April 17, 2025 order of suspension is effective upon publication.

FOR FURTHER INFORMATION CONTACT: Tracey Therit, Chief Human Capital Officer, Office of Human Resources and Administration, Department of Veterans Affairs, 810 Vermont Ave. NW, Room 265, Washington, DC 20420, Office: (202) 461-0235.

SUPPLEMENTARY INFORMATION: Pursuant to the authority provided to the Secretary of VA in section 4 of E.O. 14251, Exclusions from Federal Labor-Management Relations Programs, on April 17, 2025, VA published a notice suspending the application of section 1-402 or 1-404 of E.O. 12171, as amended, for employees represented by Laborers International Union of North America (LIUNA); Western Federation of Nurses and Health Professionals (WFNHP), Veterans Affairs Staff Nurse Council (VASNC) Local 5032 at the VA Medical Center Milwaukee, WI; International Association of Fire Fighters (IAFF-99) at the VA Medical Center, Little Rock, AR; United Nurses Association of California/Union of Healthcare Professionals (UNAC/UHCP) at the VA Medical Center, Loma Linda, CA; Teamsters Union Local 115 at the Department of Veterans Affairs Medical Center, Coatesville, PA; International Brotherhood of Electrical Workers (IBEW) Local 2168 at the Cheyenne WY VA Medical Center; and, International Association of Machinists and Aerospace Workers, (IAMAW) Local 1998 at the VA National Cemetery of the Pacific in Honolulu, HI, thereby bringing such employees under the coverage of the Federal Service Labor-Management Relations Statute. 90 FR 16427.

Having further considered the delegation of authority provision under Section 4 of E.O. 14251 and the statutory authority under 5 U.S.C. 7103(b)(1), VA's order of suspension of the application of section 1-402 or 1-404 of E.O. 12171 published at 90 FR 16427 is hereby rescinded.

Signing Authority

Douglas A. Collins, Secretary of Veterans Affairs, approved this document on November 7, 2025 and authorized the undersigned to sign and submit the document to the Office of the Federal Register for publication electronically as an official document of the Department of Veterans Affairs.

Nicole Cherry,
Alternate Federal Register Liaison Officer, Department of Veterans Affairs.

[FR Doc. 2025-19867 Filed 11-12-25; 8:45 am]

BILLING CODE 8320-01-P